DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 5, 2002.

Interested persons are invited to submit written comments regarding the subject matter of the investigations to the Director, Division of Trade Adjustment Assistance, at the address shown below, not later than July 5, 2002.

The petitions filed in this case are available for inspection at the Office of the Director, Division of Trade Adjustment Assistance, Employment and Training Administration, U.S. Department of Labor, Room C-5311, 200 Constitution Avenue, NW., Washington, DC 20210.

Signed at Washington, DC, this 28th day of May, 2002.
Edward A. Tomchick,
Director, Division of Trade Adjustment Assistance.

Appendix

Petitions Instituted on 05/28/2002

TA-W | Subject firm (petitioners) | Location | Date of petition | Product(s)
41,576 | R and B Falcon Management (Comp) | Lafayette, LA | 05/03/2002 | Oil.
41,577 | 3M Company (Comp) | Columbia, MO | 03/19/2002 | Flexible Circuits.
41,578 | Holophane Acuity Lighting (UAW) | Springfield, OH | 05/19/2002 | High Intensity Lighting.
41,579 | Delphi Energy and Chassis (UAW) | Dayton, OH | 05/10/2002 | Components for Brakes and Chassis System.
41,580 | Pacific Northwest Sugar (Comp) | Moses Lake, WA | 04/30/2002 | Sugar.
41,581 | Cincinnati Gear Co (IAMAW) | Mariemont, OH | 05/01/2002 | Gears for Engines and Electric.
41,582 | Garment Corp. of America (Comp) | Miami Beach, FL | 02/18/2002 | Uniform Shirts.
41,583 | Coco Co. Door Products (Wrks) | Harlingen, TX | 04/17/2002 | Metal Frames.
41,584 | Square D Co. (Comp) | Oshkosh, WI | 05/16/2002 | Low Voltage Transformers.
41,585 | Kennametal Greanfield (Wrks) | Greenfield, MA | 05/14/2002 | Taps.
41,586 | C ad M Kniting Mill (Wrks) | Maspeth, NY | 05/02/2002 | Textiles, Knitted Ladies Sweaters.
41,587 | Saes Getters Corp (Wrks) | Independence, OH | 05/05/2002 | Getters (T.V.'s and Computers).
41,588 | Osram Sylvania Products (Comp) | Central Falls, RI | 05/02/2002 | Glass.
41,589 | Sharmrock Conduit Products (UMWA) | Barnesville, OH | 05/07/2002 | Conduit Cupplings.
41,590 | Oxford Womenswear Group (Comp) | New York, NY | 05/03/2002 | Womens Clothing.
41,591 | Riley Gear Corp (IAMAW) | No. Tonawanda, NY | 05/01/2002 | Precision Gears.
41,592 | Logan Manufacturing (Wrks) | Ghapmanville, WV | 05/02/2002 | Jackets.
41,593 | Seco/Warwick Corp. (Comp) | Meadville, PA | 05/20/2002 | Custom Furnances.
41,594 | Fulfex, Inc. (Wrks) | Scotland Neck, NC | 05/11/2002 | Elastic Rubber.
41,595 | Greyhound Lines, Inc. (Wrks) | Dallas, TX | 02/20/2002 | Bus Service Transportation.
41,596 | Carton Craft Corp. (IAMAW) | Buffalo, NY | 05/08/2002 | Greeting Cards, Paper Back Books.
41,597 | Maukesha Engine, Dresser (IAMAW) | Waukesha, WI | 05/15/2002 | Gaseous Fuel Engines.
41,598 | Sonoco Products Co. (Comp) | Santa Maria, CA | 05/15/2002 | Plastic Bags.
41,599 | Clearfield Machine Co (IAMAW) | Clearfield, PA | 02/12/2002 | Grey Iron Casting.
41,600 | Columbia Sportswear Co (Wrks) | Portland, OR | 05/21/2002 | Outdoor Sportswear.

[FR Doc. 02-15845 Filed 6-21-02; 8:45 am]

BILLING CODE 4510-30-M